NUCLEAR REGULATORY COMMISSION

10 CFR Part 51

[NRC-2018-0296]

RIN 3150-AK32

Renewing Nuclear Power Plant Operating Licenses—Environmental Review

AGENCY: Nuclear Regulatory Commission.

ACTION: Proposed rule; public meetings and request for comment.

SUMMARY: The U.S. Nuclear Regulatory Commission (NRC) plans to hold comment-gathering public meetings on a proposed rule to amend its environmental protection regulations by updating the Commission's 2013 findings on the environmental effect of renewing the operating license of a nuclear power plant. The purpose of the meetings is to provide information and receive public comments on the proposed changes to NRC regulations, draft Revision 2 to NUREG-1437, “Generic Environmental Impact Statement for License Renewal of Nuclear Plants” (LR GEIS), and associated guidance.

DATES: The NRC plans to hold public meetings in March and April 2023 during the 60-day public comment period. See Section III, “Request for Comments and Public Meetings,” of this document for more information on the meetings.

ADDRESSES: Please refer to Docket ID NRC-2018-0296 when contacting the NRC about the availability of information regarding this public meeting. You may obtain publicly available information related to this action by any of the following methods:

• Federal Rulemaking Website: Go to https://www.regulations.gov and search for Docket ID NRC-2018-0296. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Yanely Malave-Velez, Office of Nuclear Material Safety and Safeguards, telephone: 301-415-1519, email: Yanely.Malave-Velez@nrc.gov; Jennifer Davis, Office of Nuclear Material Safety and Safeguards, telephone: 301-415-3835, email: Jennifer.Davis@nrc.gov; or Kevin Folk, Office of Nuclear Material Safety and Safeguards, telephone: 301-415-6944, email: Kevin.Folk@nrc.gov. All are staff of the U.S. Nuclear Regulatory Commission, Washington, DC 20555-0001.

SUPPLEMENTARY INFORMATION:

I. Obtaining Information and Submitting Comments

A. Obtaining Information

Please refer to Docket ID NRC-2018-0296 when contacting the NRC about the availability of information for this action. You may obtain publicly available information related to this action by any of the following methods:

• Federal Rulemaking Website: Go to https://www.regulations.gov and search for Docket ID NRC-2018-0296.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal rulemaking website (https://www.regulations.gov). Please include Docket ID NRC-2018-0296 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

On March 3, 2023, the NRC published a proposed rule in the Federal Register for a 60-day public comment period (88 FR 13329). The NRC proposes to amend its environmental protection regulations by updating the Commission's 2013 findings on the environmental effect of renewing the operating license of a nuclear power plant in part 51 of title 10 of the Code of Federal Regulations (10 CFR), “Environmental Protection Regulations for Domestic Licensing and Related Regulatory Functions,” subpart A, “National Environmental Policy Act—Regulations Implementing Section 102(2).” Additionally, the NRC proposes to revise NUREG-1437, “Generic Environmental Impact Statement for License Renewal of Nuclear Plants” (LR GEIS), which is intended to streamline the NRC's license renewal environmental review by documenting a systematic approach that the NRC uses to evaluate the environmental impacts of renewing the operating licenses of commercial nuclear power plants. The LR GEIS also provides the technical basis for Table B-1, in appendix B to subpart A of 10 CFR part 51, “Environmental Effect of Renewing the Operating License of a Nuclear Power Plant.” Among other things, these proposals will update 10 CFR part 51 and the LR GEIS to fully account for subsequent license renewal as well as initial license renewal. The NRC will solicit comments at each meeting for consideration in the development of the final rule, LR GEIS, and associated guidance.

III. Request for Comments and Public Meetings

The NRC staff plans to hold the following comment-gathering public meetings during the 60-day public comment period to present an overview of the proposed changes to the environmental protection regulations and the LR GEIS.

○ March 16, 2023, at the Bethesda North Marriott Hotel & Conference Center; First Meeting: Open House from 1:30 p.m.-2 p.m. and Public Meeting from 2 p.m.-4 p.m. (local time).

○ Second Meeting: Open House from 5:30 p.m.-6 p.m. and Public Meeting from 6 p.m.-8 p.m. (local time).

• March 28, 2023, at the Marriott Chicago Naperville; 1801 N Naperville Boulevard, Naperville, IL 60563. Open House from 5:30 p.m.-6 p.m. and Public Meeting from 6 p.m.-8 p.m. (local time).

• March 30, 2023, at the Marriott Dallas/Ft. Worth Westlake; 1301 Solana Boulevard, Building 3, Westlake, Texas 76262. Open House from 5:30 p.m.-6 p.m. and Public Meeting from 6 p.m.-8 p.m. (local time).

• April 4, 2023, at the Alloy King of Prussia; 301 West DeKalb Pike, King of Prussia, Pennsylvania 19406. Open House from 5:30 p.m.-6 p.m. and Public Meeting from 6 p.m.-8 p.m. (local time).

• April 6, 2023, at the Courtyard by Marriott Atlanta Decatur Downtown/Emory; 130 Clairemont Avenue, Decatur, GA 30303. Open House from 5:30 p.m.-6 p.m. and Public Meeting from 6 p.m.-8 p.m. (local time).

Interested stakeholders also may attend by telephone or online webinar. The public meetings will be transcribed and will include a presentation of the contents of the draft LR GEIS and proposed rule; and an opportunity for government agencies, organizations, and individuals to provide comments. No oral comments on the draft LR GEIS or proposed rule will be accepted during the open house sessions. To be considered, oral comments must be presented during the transcribed portion of the public meeting. The NRC staff also will accept written comments at any time during the public meetings. Persons interested in presenting oral comments at any of the six public meetings are encouraged to pre-register. Information for the teleconference and online webinar will be available in the meeting notices, which can be accessed through the NRC's Public Meeting Schedule at https://www.nrc.gov/pmns/mtg.

Members of the public also may register to provide oral comments in-person at each meeting. Individual oral comments may be limited by the time available, depending on the number of persons who register.

If special equipment or accommodations are needed to attend or present information at a public meeting, please contact Yanely Malave-Velez, telephone: 301-415-1519, email: Yanely.Malave-Velez@nrc.gov, no later than 10 days before the designated scheduled meeting to provide the NRC staff adequate notice to determine whether the request can be accommodated.

The NRC requests that comments that are not provided during the meeting be submitted as noted in Section I, “Obtaining Information and Submitting Comments,” of this document in writing by May 2, 2023.

IV. Availability of Documents

The documents identified in the following table are available to interested persons through one or more of the following methods, as indicated.

Document | ADAMS accession No. 1 Federal Register citation
Proposed Rule: Renewing Nuclear Power Plant Operating Licenses—Environmental Review, March 3, 2023 | 88 FR 13329
Draft Generic Environmental Impact Statement for License Renewal of Nuclear Power Plants
Draft NUREG-1437, “Generic Environmental Impact Statement for License Renewal of Nuclear Power Plants,” Volume 1, Revision 2 | ML23010A078
Draft NUREG-1437, “Generic Environmental Impact Statement for License Renewal of Nuclear Power Plants,” Volume 2, Revision 2 | ML23010A086
Draft Guidance Documents
Draft NUREG-1555, Supplement 1, Revision 2, “Standard Review Plans for Environmental Reviews for Nuclear Power Plants, Supplement 1: Operating License Renewal” | ML22165A070
Draft Regulatory Guide DG-4027, “Preparation of Environmental Reports for Nuclear Power Plant License Renewal Applications” (also referenced as Regulatory Guide (RG) 4.2, Supplement 1) | ML22165A072

The NRC may post materials related to this document, including public comments, on the Federal rulemaking website at https://www.regulations.gov under Docket ID NRC-2018-0296. The Federal rulemaking website allows members of the public to receive alerts when changes or additions occur in a docket folder. The following actions are needed to subscribe: (1) navigate to the docket folder NRC-2018-0296, (2) click the “Subscribe” link, and (3) enter an email address and click on the “Subscribe” link.

Dated: March 7, 2023.
For the Nuclear Regulatory Commission.
Patricia K. Holahan,
Director, Subsequent License Environmental Directorate, Office of Nuclear Material Safety and Safeguards.

[FR Doc. 2023-04982 Filed 3-9-23; 8:45 am]

BILLING CODE 7590-01-P